DEPARTMENT OF THE INTERIOR

National Park Service

Drakes Bay Oyster Company Special Use Permit/Environmental Impact Statement, Point Reyes National Seashore, CA

AGENCY: National Park Service, Department of the Interior.

ACTION: Notice of Intent to prepare an Environmental Impact Statement for the Drakes Bay Oyster Company Special Use Permit, Point Reyes National Seashore (hereafter Park).

SUMMARY: Pursuant to the National Environmental Policy Act of 1969, 42 U.S.C. 4332(2)(C), the National Park Service is preparing an Environmental Impact Statement (EIS) for the Drakes Bay Oyster Company Special Use Permit, Point Reyes National Seashore, California. Pursuant to section 124 of Public Law 111-88, the Secretary of the Interior has the discretionary authority to issue a special use permit for a period of 10 years to Drakes Bay Oyster Company (DBOC) for its shellfish operation at Point Reyes National Seashore. The existing Reservation of Use and Occupancy and associated special use permit held by DBOC will expire on November 30, 2012. DBOC has submitted a request for the issuance of a new permit upon expiration of the existing permit.

On behalf of the Secretary, the National Park Service will use the National Environmental Policy Act (NEPA) process to engage the public and evaluate the effects of continuing the commercial operation within the national seashore. The results of the NEPA process will be used to inform the decision of whether a new special use permit should be issued to DBOC for a period of 10 years.

A scoping letter has been prepared that details the purpose, need, and objectives of the EIS and provides an overview of the NEPA process. Copies of that information may be obtained online at (see Web site below) or from the office of the Superintendent, Point Reyes National Seashore, 1 Bear Valley Road, Point Reyes Station, CA 94956 (415) 464-5162.

DATES: The NPS will accept comments from the public through November 22, 2010. The NPS intends to hold public scoping meetings in several Bay Area locations during the scoping period. Details regarding the exact times and locations of these meetings will be announced on the Park's Web site, at http://parkplanning.nps.gov/pore (click on the Drakes Bay Oyster Company Special Use Permit EIS link), and through local and regional media at least 15 days in advance of the meetings.

ADDRESSES: Information will be available for public review online (Web site noted above) and in the office of the Superintendent, Point Reyes National Seashore, 1 Bear Valley Road, Point Reyes Station, CA 94956 (415) 464-5162.

FOR FURTHER INFORMATION CONTACT: Melanie Gunn, Outreach Coordinator, Point Reyes National Seashore, 1 Bear Valley Road, Point Reyes Station, CA 94956 (415) 464-5131.

SUPPLEMENTARY INFORMATION: If you wish to comment on the purpose, need, objectives, or on any other issues associated with the plan, you may submit your comments by any one of several methods. You may mail or hand deliver comments on the Drakes Bay Oyster Company Special Use Permit EIS to the Superintendent, Point Reyes National Seashore, 1 Bear Valley Road, Point Reyes Station, CA 94956. You may also comment via the Internet (Web site noted above). Written comments will also be accepted at the public meetings. Comments will not be accepted by fax, e-mail, or in any way other than those specified above. Bulk comments in any format (hard copy or electronic) submitted on behalf of others will not be accepted. Before including your address, phone number, e-mail address, or other personal identifying information in your comment, you should be aware that your entire comment—including your personal identifying information—may be made publicly available at any time. While you can ask us in your comment to withhold your personal identifying information from public review, we cannot guarantee that we will be able to do so.

George J. Turnbull,
Acting Regional Director, Pacific West Region.

[FR Doc. 2010-26733 Filed 10-21-10; 8:45 am]

BILLING CODE 4312-FW-P